DEPARTMENT OF HEALTH AND HUMAN SERVICES

Administration for Children and Families

Submission for OMB Review; Operation Allies Welcome Survey of Resettled Afghans (New Collection)

AGENCY: Office of Refugee Resettlement, Administration for Children and Families, Department of Health and Human Services.

ACTION: Request for public comments.

SUMMARY: The Office of Refugee Resettlement (ORR), Administration for Children and Families (ACF), U.S. Department of Health and Human Services (HHS), is proposing to collect data for a new Operation Allies Welcome (OAW) Survey of Resettled Afghans.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: Under the Afghanistan Supplemental Appropriations Act, 2022, and Additional Afghanistan Supplemental Appropriations Act, 2022, Congress authorized ORR to provide resettlement assistance and other benefits available to refugees to specific Afghan populations, in response to their emergency evacuation and resettlement. The OAW Survey of Resettled Afghans would help ORR to identify service needs and gaps in resettlement services. Data collection is to inform better targeted assistance and training or technical assistance, and to inform refinement and improvements to ORR's programs and services to adequately meet the needs of ORR-eligible OAW Afghan populations.

Respondents: ORR-eligible OAW Afghan populations.

Annual Burden Estimates
Instrument | Total number of respondents | Total number of responses per respondent | Average burden hours per response | Total/annual burden hours
OAW Survey of Resettled Afghans | 3,400 | 1 | 0.25 | 850 *
* Survey is one-time and will be completed within the 1st year.

Estimated Total Annual Burden Hours: 850.

Authority:

Div. C, Title III, Pub. L. 117-43, 135 Stat. 374

Div. B, Title III, Pub. L. 117-70, 1102 Stat. 4

Mary B. Jones,
ACF/OPRE Certifying Officer.

[FR Doc. 2022-23710 Filed 10-31-22; 8:45 am]

BILLING CODE 4184-45-P